DEPARTMENT OF COMMERCE

International Trade Administration

University of Connecticut, et al.; Notice of Consolidated Decision on Applications for Duty-Free Entry of Electron Microscopes

This is a decision consolidated pursuant to section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street NW., Washington, DC.

Docket Number: 01-017. Applicant: University of Connecticut, Storrs, CT 06269-3136. Instrument: Electron Microscope, Model JEM-2010. Manufacturer: JEOL Ltd., Japan. Intended Use: See notice at 66 FR 55913, November 5, 2001. Order Date: December 8, 2001.

Docket Number: 01-019. Applicant: University of California, Berkeley, CA 94720. Instrument: Electron Microscope, Model CM200 FEG. Manufacturer: FEI Company, The Netherlands. Intended Use: See notice at 66 FR 55913, November 5, 2001. Order Date: May 23, 2001.

Docket Number: 01-021. Applicant: Baylor College of Medicine, Houston, TX 77030. Instrument: Electron Microscope, Model JEM-2010F and Accessories. Manufacturer: JEOL Ltd., Japan. Intended Use: See notice at 66 FR 55914, November 5, 2001. Order Date: September 20, 2001.

Comments: None received. Decision: Approved. No instrument of equivalent scientific value to the foreign instrument, for such purposes as these instruments are intended to be used, was being manufactured in the United States at the time the instruments were ordered. Reasons: Each foreign instrument is a conventional transmission electron microscope (CTEM) and is intended for research or scientific educational uses requiring a CTEM. We know of no CTEM, or any other instrument suited to these purposes, which was being manufactured in the United States at the time of order of each instrument.

Gerald A. Zerdy,
Program Manager, Statutory Import Programs Staff.

[FR Doc. 01-30170 Filed 12-4-01; 8:45 am]

BILLING CODE 3510-DS-P